DEPARTMENT OF HOMELAND SECURITY

Coast Guard

[Docket No. USCG-2014-0543]

Great Lakes Pilotage Advisory Committee; Notice of a Meeting

AGENCY: Coast Guard, DHS.

ACTION: Committee Management; Notice of Federal Advisory Committee Meeting; Correction

SUMMARY: The Coast Guard published a meeting notice for the Great Lakes Pilotage Advisory Committee in the Federal Register of July 7, 2014. The notice contained incorrect information under ADDRESSES and SUPPLEMENTARY INFORMATION—Agenda.

FOR FURTHER INFORMATION CONTACT: Ms. Michelle Birchfield, telephone 202-372-1537, fax 202-372-8387, or email at Michelle.R.Birchfield@uscg.mil.

Correction

In the Federal Register of July 7, 2014, in FR Doc. 2014-15790, on page 38324, in the first column, fourth line, correct the reference to “[USCG-2014-9110]” to read “[USCG-2014-0543]; and on the same page, in the second column, ninth line from the bottom, correct “raining” to read “training.”

Dated: July 8, 2014.
Katia Cervoni,
Chief, Office of Regulations and Administrative Law. U. S. Coast Guard.

[FR Doc. 2014-16262 Filed 7-10-14; 8:45 am]

BILLING CODE 9110-04-P